DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: Evaluation of the State Early Childhood Comprehensive Systems Grant (ECCS) Program: New

HRSA's Maternal and Child Health Bureau (MCHB) is conducting an assessment of MCHB's State Early Childhood Comprehensive Systems Grant (ECCS) Program. The purpose of the ECCS Program is to assist States and Territories in their efforts to build and implement statewide Early Childhood Comprehensive Systems that support families and communities in their development of children that are healthy and ready to learn at school entry. These systems must be multi-agency and be comprised of the key public and private agencies that provide services and resources to support families and communities in providing for the healthy physical, social, and emotional development of all young children. Grantees are also charged with addressing seven key elements of early childhood comprehensive systems: (1) Governance, (2) financing, (3) communications, (4) family leadership development, (5) provider/practitioner support, (6) standards, and (7) monitoring/accountability. ECCS funding is offered to 52 States and Jurisdictions.

An evaluation will be conducted to: (1) Identify and analyze the strategies that grantees and partners are using to build comprehensive early childhood systems, (2) measure the level of progress grantees have made in meeting both the overarching Federal goals and objectives for ECCS grantees and those of their statewide plans, and (3) assess the effectiveness of grantees' early childhood systems development activities. The information from the evaluation will supplement and enhance MCHB's current data collection efforts by providing a quantifiable, standardized, systematic mechanism for collecting information across the funded implementation grantees. The results will also provide MCHB with timely feedback on the achievements of the ECCS Program and identify potential areas for improvement which will inform program planning and operational decisions.

Data collection tools for which OMB approval is being requested include Web-based surveys, telephone interviews, and a Web-based indicator reporting system. Web-based surveys are intended to collect information from all grantees regarding the structure and functioning of the State Team, the nature of activities, and perceptions of progress made in achieving outcomes. One survey will be directed at ECCS Coordinators while a second similar, but shorter survey will be directed at selected State Team members (5 State Team members from each State). The telephone interviews will be conducted with ECCS Coordinators to collect more detailed information on how early childhood services have been integrated, challenges and successes of implementation, and how the activities are designed to improve the lives of children and families. ECCS Coordinators will also be asked to enter information on three early child and family outcome indicators and provide a theory of change, or rationale, on how a specific ECCS activity or set of related activities will produce a measurable change in each outcome indicator.

Respondents: ECCS Coordinators and State Team members from the 52 grantees will be the primary respondents for the instruments. The estimated response burden is as follows:

Estimate Annualized Burden Table
Forms | Type of respondent | Number of respondents | Number of responses per respondent | Average burden hours per response | Total burden hours
Web-based Survey | ECCS Coordinators | 52 | 1 | 0.75 | 39
Web-based Survey | State Team Members | 260 | 1 | 0.3 | 78
Telephone Interview | ECCS Coordinators | 52 | 1 | 1.75 | 91
Indicator Reporting System | ECCS Coordinators | 52 | 1 | 1.5 | 78
Total |  | 416 |  |  | 286

Written comments and recommendations concerning the proposed information collection should be sent within 30 days of this notice to the desk officer for HRSA, either by e-mail to OIRA submission@omb.eop.gov or by fax to 202-395-6974. Please direct all correspondence to the “attention of the desk officer for HRSA.”

Dated: March 15, 2010.
Sahira Rafiullah,
Director, Division of Policy and Information and Coordination.

[FR Doc. 2010-6437 Filed 3-23-10; 8:45 am]

BILLING CODE 4165-15-P